DEPARTMENT OF HOMELAND SECURITY

Coast Guard

[Docket No. USCG-2009-1050]

Certificate of Alternative Compliance for the Offshore Supply Vessel KELLY ANN CANDIES

AGENCY: Coast Guard, DHS.

ACTION: Notice.

SUMMARY: The Coast Guard announces that a Certificate of Alternative Compliance was issued for the offshore supply vessel KELLY ANN CANDIES as required by 33 U.S.C. 1605(c) and 33 CFR 81.18.

DATES: The Certificate of Alternative Compliance was issued on November 18, 2009.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-1050 in the “Keyword” box, and then clicking “Search.”

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

The offshore supply vessel KELLY ANN CANDIES will be used for offshore supply operations. Full compliance with 72 COLREGS and the Inland Rules Act will hinder the vessel's ability to maneuver within close proximity of offshore platforms and conduct helicopter operations. The forward masthead light may be located forward of the helideck 10.5 meters above the hull. Placing the forward masthead light at the height as required by Annex I, paragraph 2(a) of the 72 COLREGS would result in a masthead light location that would interfere with helideck operations. In addition, the horizontal distance between the forward and aft masthead lights may be 33.023 meters. Placing the aft masthead light at the horizontal distance from the forward masthead light as required by Annex I, paragraph 3(a) of the 72 COLREGS would result in an aft masthead light location directly over the aft cargo deck where it would interfere with loading and unloading operations. Furthermore, the sidelights may be placed 2.2 meters above the forward masthead light. Placing the sidelights lower than the forward masthead light as required by Annex I, paragraph 2(g) of 72 COLREGS and Annex I, paragraph 84.03(g) of the Inland Rules Act, would subject them to interference from the deck lights and obstruction by the helideck.

A Certificate of Alternative Compliance, as allowed under Title 33 of the Code of Federal Regulations, Parts 81 and 89, has been issued for the offshore supply vessel KELLY ANN CANDIES, O.N. 1219617. The Certificate of Alternative Compliance allows for the vertical placement of the forward masthead light to deviate from requirements set forth in Annex I, paragraph 2(a) of 72 COLREGS. In addition, the Certificate of Alternative Compliance allows for the horizontal separation of the forward and aft masthead lights to deviate from the requirements of Annex I, paragraph 3(a) of 72 COLREGS. Furthermore, the Certificate of Alternative Compliance allows for the placement of the sidelights to deviate from requirements set forth in Annex I, paragraph 2(g) of 72 COLREGS and Annex I, paragraph 84.03(g) of the Inland Rules Act.

This notice is issued under authority of 33 U.S.C. 1605(c), and 33 CFR 81.18.

Dated: December 7, 2009.
J.W. Johnson,
Commander, U.S. Coast Guard, Chief, Inspections and Investigations Branch, by Direction of the Commander, Eighth Coast Guard District.

[FR Doc. E9-31226 Filed 1-4-10; 8:45 am]

BILLING CODE 9110-04-P